DEPARTMENT OF TRANSPORTATION

Coast Guard

33 CFR Part 173

[USCG-1999-6094]

RIN 2115-AF87

Raising the Threshold of Property Damage for Reports of Accidents Involving Recreational Vessels

AGENCY: Coast Guard, DOT.

ACTION: Notice of reopening of comment period.

SUMMARY: The Coast Guard is reopening the period for public comment on a partial suspension of rule with request for comments published on June 26, 2001. The chairman of a subcommittee of the National Association of State Boating Law Administrators (NASBLA) asked that we reopen the comment period so his subcommittee could discuss the rule at their meeting in October 2001 and submit a comment to the docket. We are reopening the period for 30 days so the subcommittee and other interested persons can submit comments.

DATES: Comments must reach the docket on or before November 23, 2001.

ADDRESSES: Identify your comments and related material by the docket number for this rulemaking [USCG-1999-6094]. To make sure they do not enter the docket more than once, please submit them by only one of the following means:

(1) By mail to the Docket Management Facility, U.S. Department of Transportation, room PL-401, 400 Seventh Street SW., Washington, DC 20590-0001.

(2) By hand-delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Internet site for the Docket Management System at http://dms.dot.gov.

The Docket Management Facility maintains the public docket for this rulemaking. Comments and material received from the public, as well as documents mentioned in this preamble as being available in the docket, will become part of this docket and will be available for inspection or copying at room PL-401 on the Plaza level of the Nassif Building, at the address listed above between 9 a.m. and 5 p.m., Monday through Friday, except Federal holidays. You may also find this docket on the Internet at http://dms.dot.gov. You may obtain a copy of this partial suspension of final rule by calling the Infoline of the U.S. Coast Guard at 1-800-368-5647, or read it on the Internet, at the Web site for the Office of Boating Safety, at http://www.uscgboating.org or at http://dms.dot.gov.

FOR FURTHER INFORMATION CONTACT: For questions on this notice, contact Bruce Schmidt, Project Manager, Office of Boating Safety, U.S. Coast Guard, by telephone at 202-267-0955 or by e-mail at bschmidt@comdt.uscg.mil. For questions on viewing or submitting material to the docket, call Dorothy Beard, Chief, Dockets, Department of Transportation, telephone 202-366-5149.

SUPPLEMENTARY INFORMATION:

Regulatory History

The early regulatory history for this rulemaking appears in the preamble of the final rule entitled “Raising the Threshold of Property Damage for Reports of Accidents Involving Recreational Vessels” [66 FR 21671 (May 1, 2001)].

Reason for Partial Suspension of Effective Date

After we issued the final rule on May 1, 2001, a State boating-law administrator expressed concern about a provision in the rule requiring reports of all collisions involving two or more vessels resulting exclusively in damage to property, regardless of the amount of such damage.

Currently, few States have statutory authority to require reports of multi-vessel accidents that result neither in personal injury nor in any damage to property. Further, States' legislative calendars precluded compliance by the published effective date, July 2, 2001. We note that States' legislation would be unnecessary if our provision for reporting collisions of two or more vessels included a threshold of $500, since all States do now maintain such a threshold. Because of the concern raised about the impact of our provision on States' legislation, the Coast Guard delayed implementation of that provision, in 33 CFR 173.55(a)(3), requiring a report whenever “* * * a collision occurs involving two or more vessels, regardless of the amount of damage to property; * * *”, and provided a 90-day comment period on the provision.

Reason for Reopening the Comment Period

In response to the notice of partial suspension of effective date, we received 28 comments, including a request from the Chairman of the Boating Accident Investigation Reporting and Analysis Committee (BAIRAC) of NASBLA to extend the comment period beyond the meeting of BAIRAC in October 2001. We are reopening the comment period until November 23, 2001 to let BAIRAC discuss the suspended provision at that meeting and submit a comment to the docket. We are also reopening it to anyone else who would like to submit a comment, but please do not re-submit comments already in the docket.

Request for Comments

We encourage you to participate in this rulemaking by submitting your comments to the Docket Management Facility as specified in ADDRESSES. Please submit comments and materials related only to the provision in 33 CFR 173.55(a)(3), requiring a report whenever “* * * a collision occurs involving two or more vessels, regardless of the amount of damage to property; * * *”. We will consider comments received during this reopened comment period and may change 33 CFR 173.55(a)(3) in response to the comments.

Dated: October 18, 2001.
Kenneth T. Venuto,
Rear Admiral, U.S. Coast Guard, Acting Assistant Commandant for Operations.

[FR Doc. 01-26814 Filed 10-23-01; 8:45 am]

BILLING CODE 4910-15-U